MISSISSIPPI RIVER COMMISSION

Sunshine Act Meetings

Agency Holding the Meeting: Mississippi River Commission.

Time and Date: 9 a.m., April 3, 2006.

Place: On board MISSISSIPPI V at River Park, Tiptonville, TN.

Status: Open to the public.

Matters to Be Considered: (1) Summary report by President of the Commission on national and regional issues affecting the U.S. Army Corps of Engineers and Commission programs and project on the Mississippi River and its tributaries; (2) District Commander's overview of current project issues within the Memphis District; and (3) Presentations by local organizations and members of the public giving views or comments on any issue affecting the programs or project of the Commission and the Corps of Engineers.

Time and Date: 9 a.m., April 4, 2006.

Place: On board MISSISSIPPI V at Mud Island, Memphis, TN.

Status: Open to the public.

Matters to Be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

Time and Date: 1 p.m., April 5, 2006.

Place: On board MISSISSIPPI V at City Front, Vicksburg, MS.

Status: Open to the public.

Matters to Be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

Time and Date: 9 a.m., April 7, 2006.

Place: On board MISSISSIPPI V at New Orleans District Dock, Foot of Prytania Street, New Orleans, LA.

Status: Open to the public.

Matters to Be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

CONTACT PERSON FOR MORE INFORMATION: Mr. Stephen Gambrell, telephone 601-634-5766.

Brenda S. Bowen,
Army Federal Register Liaison Officer.

[FR Doc. 06-1990 Filed 2-28-06; 11:54 am]

BILLING CODE 3710-GX-M